DEPARTMENT OF JUSTICE

Federal Bureau of Investigation

[OMB Number 1110-0047]

Agency Information Collection Activities: Proposed Collection, Comments Requested: Revision of a Currently Approved Collection; Applicant Questionnaire: Race, National Origin, Gender, and Disability Demographics

ACTION: 30-Day notice of information collection under review.

The Department of Justice, Federal Bureau of Investigation, Human Resources Division will be submitting the following information collection request to the Office of Management and Budget (OMB) for review and clearance in accordance with established review procedures of the Paperwork Reduction Act of 1995 (44 U.S.C. 3501 et seq.). The proposed information collection is published to obtain comments from the public and other government agencies. The proposed revised information collection was previously published in the Federal Register allowing for a 60 day comment period.

The purpose of this notice is to allow for an additional 30 days for public comment until April 4, 2012. This process is conducted in accordance with 5 CFR 1320.10.

All comments and suggestions, or questions regarding additional information should be directed to Angela Graham, Human Resources Specialist (Special Projects/Policy), Human Capital Planning Section (HCPS), Human Resources Division (HRD), Federal Bureau of Investigation, 935 Pennsylvania Ave. NW., Room 10975, Washington, DC, 20535. To view the proposed collection instrument with instruction, please visit the following link: http://www.fbi.gov/fbijobs_proposedcollection.htm.

Written comments and suggestions from the public and affected agencies concerning the revised collection of information are encouraged. Comments should address one or more of the following four points:

(1) Evaluate whether the proposed collection of information is necessary for the proper performance of the functions of the agency, including whether the information will have a practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of information collection: Revision of a currently approved collection.

(2) The title of the form/collection: Applicant Questionnaire: Race, National Origin, Gender and Disability Demographics

(3) The agency form number, if any, and the applicable component of the department sponsoring the collection: Form 3-873, Sponsor: Human Resources Division, Federal Bureau of Investigation, Department of Justice.

(4) Affected public who will be asked or required to respond, as well as a brief abstract:

Any person registering and/or applying for a position at the Federal Bureau of Investigation.

Abstract: The Equal Employment Opportunity Commission Management Directive 715 (MD 715), requires agencies to maintain a system that: (1) Collects and maintains accurate information on race, national origin, gender and disability of an applicant/or employee in accordance with 29 CFR, paragraph 1614.601; (2) tracks applicant flow data; and (3) tracks recruitment activities to permit analyses of these efforts in any examination of potential barriers to equality of opportunity. Agencies must also “conduct an internal review and analysis of the effects of all current and proposed policies, practices, and conditions that directly or indirectly,” related to the employment of individuals with disabilities based on their race, national origin, gender and disabilities. However, an Agency may not collect demographics information, unless it displays a valid OMB control number. In order to comply with MD 715, the FBI is requesting clearance from OMB in accordance with established review procedures of the Paperwork Reduction Act of 1995. Once cleared for use, the revised form will be used to collect race, national origin, gender, and disability demographic information from applicants registering in the FBI's automated hiring system. All job applicants, whether internal or external, would be asked to complete, on a voluntary basis, an “Applicant Questionnaire: Race, National Origin, Gender, and Disability Demographics.” The FBI must collect and evaluate information and data necessary to make an informed assessment the extent to which the Agency is meeting its responsibility to provide employment opportunities for qualified applicants and employees with disabilities, especially those with target disabilities.

(5) An estimate of the total number of respondents and the amount of time estimated for or an average respondent to respond: There are approximately 455,937 respondents that submit a one-time completion of questionnaire per respondent for a total of responses with an estimated response time of 5 minutes per response.

(6) An estimate of the total public burden (in hours) associated with this collection: There are approximately 37,994.75 annual burden hours associated with this collection.

If additional information is required contact: Jerri Murray, Department Clearance Officer, Policy and Planning Staff, Justice Management Division, United States Department of Justice, Two Constitution Square, 145 N Street NE., Washington, DC 20530.

Jerri Murray,
Department Clearance Officer, PRA, United States Department of Justice.

[FR Doc. 2012-5247 Filed 3-2-12; 8:45 am]

BILLING CODE 4410-02-P